DEPARTMENT OF COMMERCE

National Oceanic and Atmospheric Administration

[I.D.050500B]

Endangered Species; Permits

AGENCY: National Marine Fisheries Service (NMFS), National Oceanic and Atmospheric Administration (NOAA), Commerce.

ACTION: Receipt of an application for a scientific research permit (1252) and an amended application for modification 5 to scientific research permit 994.

SUMMARY: Notice is hereby given of the following actions regarding permits for takes of endangered and threatened species for the purposes of scientific research and/or enhancement: NMFS has received an application for an ESA section 10(a)(1)(A) scientific research permit (1252) from the Washington State Department of Transportation at Olympia, WA (WSDOT) and NMFS has received an amended modification request from the Idaho Cooperative Fish and Wildlife Research Unit at Moscow, ID (ICFWRU).

DATES: Comments or requests for a public hearing on either application must be received at the appropriate address or fax number no later than 5:00 pm eastern standard time on June 15, 2000.

ADDRESSES: Written comments on any of the new applications or modification requests should be sent to the appropriate office as indicated below. Comments may also be sent via fax to the number indicated for the application or modification request. Comments will not be accepted if submitted via e-mail or the internet. The applications and related documents are available for review in the indicated office, by appointment:

Protected Resources Division, F/NWO3, 525 NE Oregon Street, Suite 500, Portland, OR 97232-2737 (ph: 503-230-5400, fax: 503-230-5435).

Documents may also be reviewed by appointment in the Office of Protected Resources, F/PR3, NMFS, 1315 East-West Highway, Silver Spring, MD 20910-3226 (301-713-1401).

FOR FURTHER INFORMATION CONTACT: Robert Koch, Portland, OR (ph: 503-230-5424, Fax: 503-230-5435, e-mail: robert.koch@noaa.gov).

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species and evolutionary significant units (ESU's) are covered in this notice:

Sockeye salmon (Oncorhynchus nerka): endangered Snake River (SnR), threatened Ozette Lake.

Chinook salmon (O. tshawytscha): endangered, naturally produced and artificially propagated, upper Columbia River (UCR) spring; threatened, naturally produced and artificially propagated, SnR spring/summer; threatened SnR fall; threatened lower Columbia River (LCR); threatened, naturally produced and artificially propagated, Puget Sound.

Chum salmon (O. keta): threatened Hood Canal summer, threatened Columbia River.

Steelhead (O. mykiss): endangered, naturally produced and artificially propagated, UCR; threatened SnR; threatened middle Columbia River (MCR); threatened LCR.

To date, protective regulations for threatened Ozette Lake sockeye salmon, threatened LCR chinook salmon, threatened Puget Sound chinook salmon, threatened Hood Canal summer chum salmon, threatened Columbia River chum salmon, threatened SnR steelhead, threatened MCR steelhead, and threatened LCR steelhead under section 4(d) of the ESA have not been promulgated by NMFS.

Protective regulations are currently proposed for threatened Ozette Lake sockeye salmon, threatened LCR chinook salmon, threatened Puget Sound chinook salmon, threatened Hood Canal summer chum salmon, threatened Columbia River chum salmon (65 FR 169, January 3, 2000) and threatened SnR, MCR, and LCR steelhead (64 FR 73479, December 30, 1999). This notice of receipt of an application requesting takes of these species is issued as a precaution in the event that NMFS issues protective regulations. The initiation of a 30-day public comment period on the application, including its proposed takes of Ozette Lake sockeye salmon, threatened LCR chinook salmon, threatened Puget Sound chinook salmon, threatened Hood Canal summer chum salmon, threatened Columbia River chum salmon, threatened SnR steelhead, threatened MCR steelhead, and threatened LCR steelhead, does not presuppose the contents of the eventual protective regulations.

New Application Received

WSDOT requests a five-year ESA section 10(a)(1)(A) scientific research permit (1252) that would authorize annual takes of juveniles of all of the ESA-listed salmonid species included in this notice, during presence/absence surveys in waterbodies crossed by or adjacent to state transportation systems (highways, railroads, or airports) in the State of WA. The surveys will be used to assess potential impacts of WSDOT projects on ESA-listed fish species. The survey work will benefit the species by providing information that will enable WSDOT to implement specific timing restrictions for in-water work windows, and to implement best management practices designed to protect ESA-listed species. The surveys will also add to the knowledge base of where ESA-listed species are located. ESA-listed juvenile fish are proposed to be observed/harassed during snorkel surveys or captured (using dip nets, stick seines, baited gee minnow traps, rod and reel, or electrofishing), handled, and released. ESA-listed juvenile fish indirect mortalities are also requested.

Amended Modification Request Received

On September 25, 1998, NMFS published a notice in the Federal Register (63 FR 51340) that an application was received from ICFWRU for modification 5 to ESA section 10(a)(1)(A) scientific research permit 994. On March 21, 2000, NMFS published a notice in the Federal Register (65 FR 15131) that an amendment of the application for modification 5 to ESA section 10(a)(1)(A) scientific research permit 994 was received from ICFWRU. Permit 994 authorizes ICFWRU annual takes of adult SnR sockeye salmon, adult SnR spring/summer and fall chinook salmon, and adult UCR steelhead associated with scientific research designed to assess the passage success and homing behavior of adult salmonids that migrate upriver past the eight dams and reservoirs in the lower Columbia and lower Snake Rivers, evaluate specific flow and spill conditions, and evaluate measures to improve adult anadromous fish passage. NMFS has received a second amendment of ICFWRU's application for modification 5 to permit 994. In the application amendment, ICFWRU requests an increase in the take of adult UCR steelhead associated with the scientific research. Based on recent information regarding expected ESA-listed adult steelhead escapement in 2000, and the probability of encountering adult UCR steelhead at the sampling location (Bonneville Dam on the lower Columbia River), ICFWRU has determined that an increase in take of adult UCR steelhead is necessary to maintain the sample size required to conduct a statistically valid study. ESA-listed adult steelhead are proposed to be captured at Bonneville Dam, tagged with radiotransmitters and identifier tags, released, and tracked electronically as they make their way upriver. Modification 5 as amended is requested to be valid for the duration of the permit which expires on December 31, 2000.

Dated: May 11, 2000.
Wanda L. Cain,
Chief, Endangered Species Division, Office of Protected Resources, National Marine Fisheries Service.

[FR Doc. 00-12296 Filed 5-15-00; 8:45 am]

BILLING CODE 3510-22-F